DEPARTMENT OF HEALTH AND HUMAN SERVICES

Administration for Children and Families

Agency Recordkeeping/Reporting Requirements Under Emergency Review by the Office of Management and Budget (OMB)

Title: Design and field testing of Head Start National Reporting System on Child Outcomes.

OMB No.: New Request.

Description: The Administration on Children, Youth and Families (ACYF), Administration for Children and Families (ACF) of the Department of Health and Human Services (DHHS) is requesting comments on plans to conduct the Design and Field Testing of the Head Start National Reporting System on Child Outcomes. This study is being conducted under contract with Westat and Xtria (#282-98-0015) to collect child outcomes information that will be used for program improvement in Head Start.

The purpose of this field test is to create the framework and procedures for a national outcomes report of children's ability and progress on the Presidentially and congressionally-mandated standards of learning. This effort will involve a subsample of 36 Head Start programs. In these programs, we will collect direct assessment data on approximately 1,440 sample children as well as their demographic information, the backgrounds of their respective classroom teachers, and the characteristics of their respective programs. This data will be used to develop and evaluate a system to report this outcome information.

After designing the framework and procedures for the National Reporting System, Westat/Xtria will then evaluate how well such a system would work, based on analysis of direct assessment data from a national sample of programs, classes, and children. Westat will then recommend any modifications to the design for the full national implementation year of the National Reporting System (NRS), based on the results of the field test. This could include recommendations on the training procedures of field staff or modifications of the assessment battery.

In the implementation of the NRS, staff training in collecting and submitting data will be critical. In order to ensure high quality data for the NRS, two different approaches to staff training will be evaluated in two study conditions:

Standard Training

The NRS will use a “training the trainers” training program. This effort will involve a subsample of 26 programs drawn from around the country. Selected staff from each program will travel to Rockville, Maryland to be trained in the procedures to teach other Head Start staff members how to administer the assessment battery and how to use the computer reporting system (Condition Two). Once trained, these “trained trainers” will return to their respective Head Start programs and train their local teachers how to administer the assessment battery and how to use the computer reporting system.

Extended Training

This training condition will involve a subsample of 10 Head Start programs drawn from around the country. These programs will receive the standard 3-day training workshop plus one extra day of extended training on how to conduct training sessions for their local Head Start staff (Condition One).

The field test will also evaluate any differences between the types of assessors administering the assessment. Head Start classroom teachers, the first type of assessor, will be responsible for administering the assessment to children from their own classroom. The second type of assessor is any other Head Start staff, or “non-classroom teachers,” including program coordinators, education coordinators, education specialists, or even teachers from other classrooms (e.g., teacher from classroom A assesses children from classroom B). The purpose of examining these types of assessors is to determine if there are any differences in the administration of the assessment and/or the scores collected by these different types of assessors. Any possible bias or unreliability in the assessment scores collected by the different types of assessors, and the ease of administration and fidelity to standard administration procedures will be evaluated.

Respondents: Head Start Children and Head Start Staff.

Annual Burden Estimates: Estimated Annual Response Burden to Respondents for the Design and field testing of Head Start National Reporting System on Child Outcomes.

Estimated Response Burden for Respondents in the Head Start National Reporting System Field Test—Spring 2003
Activities | Number of respondents | Number of responses per respondent | Average burden hours per response | Total burden hours
Head Start Children: Complete Direct Assessments | 1440 | 1 | 1/3 | 480
Head Start Staff: Administer Direct Assessment | 144 | 10 | 1/3 | 480
Head Start Staff: Enter Child Demographic Information | 1440 | 1 | 1/12 | 120
Head Start Staff: Enter Teacher Background Information | 144 | 1 | 1/30 | 4.8
Head Start Children: Parallel Child Assessments administered by Field Staff | 480 | 1 | 1/3 | 160
Program Directors Technology Survey | 400 | 1 | 1/4 | 100
Condition One Head Start Staff: Training as Trainers for the Direct Child Assessments | 10 | 1 | 28 | 280
Condition Two head Start Staff: Training as Trainers for the Direct Child Assessments | 26 | 1 | 20 | 520
Head Start Staff: Training Local Staff for the Direct Child Assessments | 36 | 1 | 8 | 288
Head Start Staff: Receiving Training for the Direct Child Assessments | 144 | 1 | 8 | 1152
Totals for Spring 2003 |  |  |  | 3,584.8

Additional Information: ACF is requesting that OMB grant a 180 day approval for this information collection under procedures for emergency processing by March 15, 2003. A copy of this information collection, with applicable supporting documentation, may be obtained by calling the Administration for Children and Families, Reports Clearance Officer, Robert Sargis at (202) 690-7275. In addition, a request may be made by sending an e-mail request to: rsargis@acf.dhhs.gov.

Comments and questions about the information collection described above should be directed to the following address by March 15, 2003: Office of Information and Regulatory Affairs, Attn: OMB Desk Officer for ACF, Office of Management and Budget, Paper Reduction Project, 725 17th Street, NW., Washington, DC 20503.

Dated: February 21, 2003.
Robert Sargis,
Reports Clearance Officer.

[FR Doc. 03-4585 Filed 3-26-03; 8:45 am]

BILLING CODE 4184-01-M